SMALL BUSINESS ADMINISTRATION

Region X Regulatory Fairness Board; Public Federal Regulatory Enforcement Fairness Roundtable

The Small Business Administration Region X Regulatory Fairness Board and the SBA Office of the National Ombudsman will hold a Public Roundtable on Tuesday, July 15, 2003 at 9 a.m. at the Wells Fargo Bank Alaska, 5th Floor Conference Room, Anchorage, AK 99501 to provide small business owners and representatives of trade associations with an opportunity to share information concerning the federal regulatory enforcement and compliance environment.

Anyone wishing to attend or to make a presentation must contact Ron Veltkamp in writing or by fax, in order to be put on the agenda. Ron Veltkamp, U.S. Small Business Administration, Alaska District Office, 510 L Street, Suite 310, Anchorage, AK 99501, phone (907) 271-4838, fax (907) 271-4545, e-mail: ronald.veltkamp@sba.gov.

For more information, see our Web site at http://www.sba.gov/ombudsman.

Dated: June 23, 2003.
Michael L. Barrera,
National Ombudsman.

[FR Doc. 03-16391 Filed 6-27-03; 8:45 am]

BILLING CODE 8025-01-P